NATIONAL SCIENCE FOUNDATION

Committee on Equal Opportunities in Science and Engineering; Notice of Meeting

In accordance with the Federal Advisory Committee Act (Pub. L.92-463, as amended), the National Science Foundation (NSF) announces the following meeting:

Name and Committee Code: Committee on Equal Opportunities in Science and Engineering (CEOSE) 1173.

Date and Time: October 28, 2021; 11:30 a.m.-5:15 p.m.

Place: National Science Foundation, 2415 Eisenhower Avenue, Alexandria, VA 22314 | Virtual.

Meeting Registration: Virtual attendance information will be forthcoming on the CEOSE website at http://www.nsf.gov/od/oia/activities/ceose/index.jsp.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

11:30 a.m.-Noon

Welcome and Opening Remarks Dr. Jose D. Fuentes, CEOSE Chair

NSF Executive Liaison Report

Noon-1:00 p.m.

Discussion: Reports of CEOSE Liaisons to NSF Advisory Committees

Report(s) of Federal Liaison(s) to the CEOSE Advisory Committees

1:00 p.m.-2:20 p.m.

Panel: Leadership Roles of MSIs in STEM Education and Workforce Development

MPS/EHR Leadership, Co-Chairs

Lead PDs of NSF's MSI Programs, Presenters

MPS: PREM, PREP

EHR: HBCU-UP, HSI, TCUP, and CREST Programs

NSB Vice Chair, Discussant

2:20 p.m.-2:30 p.m.

BREAK

2:30 p.m.-3:00 p.m.

Discussion with NSF Leadership

NSF Director and Chief Operating Officer

3:00 p.m.-4:15 p.m.

Panel: STEM Identity and Intersectionality—Part I

EHR Leadership and PO/PI Community

4:15 p.m.-5:00 p.m.

Discussion:

Dissemination of the 2019-2020 Report and Preparation for the 2021-2022 Report.

5:00-5:15 p.m.

Announcements and Final Remarks

Dated: September 28, 2021.
Crystal Robinson,
Committee Management Officer.

[FR Doc. 2021-21498 Filed 10-1-21; 8:45 am]

BILLING CODE 7555-01-P